DEPARTMENT OF ENERGY

[OE Docket No. EA-211-B]

Application To Export Electric Energy; DTE Energy Trading, Inc.

AGENCY: Office of Electricity Delivery and Energy Reliability, DOE.

ACTION: Notice of Application.

SUMMARY: DTE Energy Trading, Inc. (DTE) has applied to renew its authority to transmit electric energy from the United States to Canada pursuant to section 202(e) of the Federal Power Act (FPA).

DATES: Comments, protests or requests to intervene must be submitted on or before April 13, 2007.

ADDRESSES: Comments, protests or requests to intervene should be addressed as follows: Office of Electricity Delivery and Energy Reliability, Mail Code: OE-20, U.S. Department of Energy, 1000 Independence Avenue, SW., Washington, DC 20585-0350 (FAX 202-586-8008).

FOR FURTHER INFORMATION CONTACT: Ellen Russell (Program Office) 202-586-9624 or Michael Skinker (Program Attorney) 202-586-2793.

SUPPLEMENTARY INFORMATION: Exports of electricity from the United States to a foreign country are regulated and require authorization under section 202(e) of the Federal Power Act (FPA) (16 U.S.C. 824a(e)).

On June 24, 1999, the Department of Energy (DOE) issued Order No. EA-211 authorizing DTE to transmit electric energy from the United States to Canada as a power marketer for a two-year term. On April 25, 2002, in Order No. EA-211-A, DOE renewed that authorization for a five-year term, which expires on April 25, 2007.

On March 21, 2007, DTE filed an application with DOE to renew the export authority contained in Order No. EA-211-A for an additional five-year term. DTE does not own or control any transmission or distribution assets, nor does it have a franchised service area. The electric energy which DTE proposes to export to Canada would be purchased from electric utilities and Federal power marketing agencies within the United States.

In its renewal application, DTE requested DOE expedite the processing of the application so that it may continue uninterrupted participation in the competitive wholesale marketplace in Ontario. DOE has granted this request and has shortened the public comment period to 15 days.

DTE will arrange for the delivery of exports to Canada over the international transmission facilities currently owned by Basin Electric Power Cooperative, Bonneville Power Administration, Eastern Maine Electric Cooperative, International Transmission Co., Joint Owners of the Highgate Project, Long Sault, Inc., Maine Electric Power Company, Maine Public Service Company, Minnesota Power, Inc., Minnkota Power Cooperative, Inc., New York Power Authority, Niagara Mohawk Power Corp., Northern States Power Company, and Vermont Electric Transmission Co.

The construction, operation, maintenance, and connection of each of the international transmission facilities to be utilized by DTE has previously been authorized by a Presidential permit issued pursuant to Executive Order 10485, as amended.

Procedural Matters: Any person desiring to become a party to this proceeding or to be heard by filing comments or protests to this application should file a petition to intervene, comment or protest at the address provided above in accordance with §§ 385.211 or 385.214 of the Federal Energy Regulatory Commission's Rules of Practice and Procedures (18 CFR 385.211, 385.214). Fifteen copies of each petition and protest should be filed with DOE on or before the date listed above.

Comments on the DTE application to export electric energy to Canada should be clearly marked with Docket No. EA-211-B. Additional copies are to be filed directly with Linda S. Portasik, DTE Energy Company, 2000 Second Avenue, 688 WCB, Detroit, MI 48226 AND Sandra C. Steffen, DTE Energy Trading, Inc., 200 Ashley Mews, 414 South Main Street, Ann Arbor, MI 48104.

A final decision will be made on this application after the environmental impacts have been evaluated pursuant to the National Environmental Policy Act of 1969, and a determination is made by the DOE that the proposed action will not adversely impact on the reliability of the U.S. electric power supply system.

Copies of this application will be made available, upon request, for public inspection and copying at the address provided above or by accessing the program's Home Page at http://www.oe.energy.gov/304.htm.

Issued in Washington, DC, on March 23, 2007.
Anthony J. Como,
Director, Permitting and Siting, Office of Electricity Delivery and Energy Reliability.

[FR Doc. E7-5782 Filed 3-28-07; 8:45 am]

BILLING CODE 6450-01-P